OFFICE OF PERSONNEL MANAGEMENT

Submission for OMB Review; Comment Request for Extension of a Revised Information Collection: Nonforeign Area Cost-of-Living Allowance Price and Background Surveys

AGENCY: Office of Personnel Management.

ACTION: Notice.

SUMMARY: In accordance with the Paperwork Reduction Act of 1995, the Office of Personnel Management (OPM) has submitted to the Office of Management and Budget a request for extension of two previously-approved information collections for which approval will soon expire. OPM uses the two information collections, a price survey and a background survey, to gather data to be used in determining nonforeign area cost-of-living allowances (COLAs) paid to certain Federal employees in Alaska, Hawaii, Guam and the Northern Mariana Islands, Puerto Rico, and the U.S. Virgin Islands. OPM conducts Price Surveys in the Washington, DC, area on an annual basis and once every 3 years in each allowance area on a rotating basis. Prior to these surveys, OPM conducts Background Surveys that are similar to the Price Surveys, but much more limited in scope. OPM uses the results of the Background Surveys to prepare for the Price Surveys.

The COLA Price Survey is necessary for collecting living-cost data used to determine COLAs. OPM uses the Price Survey results to compare prices in the allowance areas with prices in the Washington, DC, area and to derive COLA rates where local living costs significantly exceed those in the DC area. The COLA Background Survey is necessary to determine the continued appropriateness of items, services, and businesses selected for the annual price surveys. OPM uses the Background Survey results to identify items to be priced and the outlets at which OPM will price the items in the Price Surveys.

OPM will survey selected retail, service, realty, and other businesses and local governments in the allowance areas and in the Washington, DC, area. OPM will contact approximately 2,000 establishments in each annual Price Survey and approximately 100 establishments in each annual Background Survey. Participation in the surveys is voluntary.

OPM estimates that the average price survey interview will take approximately 6 minutes, for a total burden of 200 hours. The average background survey interview will take approximately 6.5 minutes, for a total burden of 11 hours.

For copies of this proposal, please contact Mary Beth Smith-Toomey at (202) 606-8358; fax: (202) 418-3251; or E-mail: mbtoomey@opm.gov.

DATES: Submit comments on or before June 23, 2005.

ADDRESSES: Comments: Send or deliver comments to:

• Donald J. Winstead, Deputy Associate Director for Pay and Performance Policy, Office of Personnel Management, Room 7H31, 1900 E Street, NW., Washington, DC 20415-8200; fax: (202) 606-4264, or e-mail: cola@opm.gov.; and

• Brenda Aguilar, OPM Desk Officer, Office of Information and Regulatory Affairs, Office of Management and Budget, New Executive Office Building, NW., Room 10235, Washington, DC 20503.

FOR FURTHER INFORMATION CONTACT: Kurt M. Springmann, (202) 606-2838.

SUPPLEMENTARY INFORMATION: OPM published notice of its intention to request an extension of the price and background surveys in the Federal Register on February 1, 2005 (70 FR 5258). OPM received no comments.

Office of Personnel Management.

Dan G. Blair,
Acting Director.

[FR Doc. 05-10272 Filed 5-23-05; 8:45 am]

BILLING CODE 6325-39-P